COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List a product and services previously furnished by such agencies.

EFFECTIVE DATE: May 13, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION:

Additions

On February 8, February 15 and February 22, 2002, the Committee for Purchase From People Who Are Blind or Severely Disabled published notice (67 FR 5965, 7130 and 8226) of proposed additions to the Procurement List.

After consideration of the material presented to it concerning capability of qualified nonprofit agencies to provide the services and impact of the additions on the current or most recent contractors, the Committee has determined that the services listed below are suitable for procurement by the federal Government under 41 U.S.C. 46-48c and 41 CFR 51-2.4. I certify that the following action will not have a significant impact on a substantial number of small entities. The major factors considered for this certification were:

1. The action will not result in any additional reporting, recordkeeping or other compliance requirements for small entities other than the small organizations that will furnish the services the Government.

2. The action will not have a severe economic impact on current contractors for the services.

3. The action will result in authorizing small entities to furnish the services to the Government.

4. There are no known regulatory alternatives which would accomplish the objectives of the Javits-Wagner-ODay Act (41 U.S.C. 46-48c) in connection with the services proposed for addition to the Procurement List.

Accordingly, the following services are added to the Procurement List:

Services

Service Type/Location: Base Supply Center & HAZMAT, Fleet and Industrial Supply Center, Jacksonville. (Detachment Naval Station Guantanamo Bay Cuba).

NPA: Winston-Salem Industries for the Blind, Winston-Salem, North Carolina.

Contract Activity: Fleet & Industrial Supply Center, Jacksonville.

Service Type/Location: CD-ROM Replication—Program 2239S, Government Printing Office, Philadelphia Regional Printing Procurement Office, Southampton, Pennsylvania.

NPA: Association for the Blind & Visually Impaired & Goodwill Industries of Greater Rochester, Rochester, New York.

Contract Activity: Government Printing Office.

Service Type/Location: Food Service, Pueblo Chemical Depot, Pueblo, Colorado.

NPA: Pueblo Diversified Industries, Inc., Pueblo, Colorado.

Contract Activity: U.S. Army, Rocky Mountain Arsenal, Commerce City, Colorado.

Service Type/Location: Janitorial/Custodial, Peace Bridge Complex, Buffalo, New York.

NPA: Suburban Adult Services, Inc., Sardinia, New York.

Contract Activity: GSA, Public Buildings Service.

Deletions

I certify that the following action will not have a significant impact on a substantial number of small entities. The major factors considered for this certification were:

1. The action will not result in any additional reporting, recordkeeping or other compliance requirements for small entities.

2. The action will not have a severe economic impact on future contractors for the product and services.

3. The action may result in authorizing small entities to furnish the product and services to Government.

4. There are no known regulatory alternatives which would accomplish the objectives of the Javits-Wagner-ODay Act (41 U.S.C. 46-48c) in connection with the product and services deleted from the Procurement List.

After consideration of the relevant matter presented, the committee has determined that the product and services listed below are no longer suitable for procurement by the Federal Government under 41 U.S.C. 46048 and 41 CFR 51-2.4.

Accordingly, the following product and services are hereby deleted from the Procurement List:

Product

Product/NSN: Paper, Looseleaf, Ruled, 7530-00-286-4332.

NPA: Alabama Industries for the Blind, Talladega, Alabama.

Contract Activity: Office Supplies & Paper Products Commodity Center.

Services

Service Type/Location: Grounds Maintenance, Brooks Air Force Base (Koritz Memorial Garden), Brooks AFB, Texas.

NPA: Goodwill Industries of San Antonio, San Antonio, Texas.

Contract Activity: Department of the Air Force.

Service Type/Location: Janitorial/Custodial, Brooks Air Force Base (Base Wide), Brooks AFB, Texas.

NPA: Goodwill Industries of San Antonio, San Antonio, Texas.

Contract Activity: Department of the Air Force.

Service Type/Location: Janitorial/Custodial, Federal Complex, Kansas City, Missouri.

NPA: Independence & Blue Springs Industries, Inc., Independence, Missouri.

Contract Activity: General Services Administration.

Sheryl D. Kennerly,
Director, Information Management.

[FR Doc. 02-8943 Filed 4-11-02; 8:45 am]

BILLING CODE 6353-01-P